DEPARTMENT OF EDUCATION

Announcement of Requirements and Registration for the EdSim Challenge

AGENCY: Office of Career, Technical, and Adult Education, Department of Education.

ACTION: Notice; public challenge.

SUMMARY: The U.S. Department of Education (the Department) is announcing the EdSim Challenge (Challenge), a prize competition funded by the Carl D. Perkins Career and Technical Education Act of 2006 (Perkins IV or Act). The Challenge calls upon the virtual reality, video game developer, and educational technology communities to design next-generation computer-generated simulations for career and technical education (CTE) that prepare students for the globally competitive workforce of the 21st century.

The Challenge seeks designs that lead to the acquisition of academic, technical, and employability skills through engaging simulated experiences in the hybrid reality continuum. For the purpose of this notice, “hybrid reality continuum” refers to the range of computer-generated simulations that extend from completely simulated environments to environments that incorporate aspects of the real world.¹ For the purpose of this Challenge, “EdSim” is broadly defined as computer-generated three-dimensional learning environments, including virtual, augmented, and mixed realities that draw upon or mimic real-world experiences and are designed to educate users.

¹ Estes, J. S., Dailey-Hebert, A., & Choi, D. H. (2016). Integrating Technological Innovations to Enhance the Teaching-Learning. In D. H. Choi, A. Dailey-Hebert, and J. S. Estes (Ed.S.) Process. Emerging Tools and Applications of Virtual Reality in Education (pp 277-304), Hersey, PA: Information Science Reference (an imprint of IGI Global).

The purpose of this Challenge is to stimulate the marketplace for computer-generated virtual and augmented reality educational experiences that combine existing and future technologies with skill-building content and embedded assessment.

DATES: We must receive your first round Challenge submission on or before 4:59:59 p.m., Washington, DC time on January 17, 2017.

The timeframes for judging the first round submissions and selecting the finalists will be determined by the Department.

The Department will conduct at least one online information session during the first round submission phase of the Challenge. The date of the session will be determined and announced by the Department, posted on www.edsimchallenge.com (Challenge Web page), and sent to entrants by email. The dates for Challenge events and deadline for second round submissions will be determined and announced by the Department.

The date for the final judging will be determined and announced by the Department following Demonstration Day.

The winner(s) will be announced on a date determined and announced by the Department.

ADDRESSES: Submit entries for the Challenge on www.edsimchallenge.com.

FOR FURTHER INFORMATION CONTACT: Albert Palacios, U.S. Department of Education, 550 12th Street SW., Room 11086, Washington, DC 20202 or by email: albert.palacios@ed.gov.

If you use a telecommunications device for the deaf (TDD) or a text telephone (TTY), call the Federal Relay Service, toll free, at 1-800-877-8339.

SUPPLEMENTARY INFORMATION:

I. Administration of the Challenge Competition

The Challenge will be conducted by the U.S. Department of Education. Luminary Labs, L.L.C. (Luminary Labs) has been contracted by the Department to assist and support the Department in organizing and managing this competition. Activities conducted by Luminary Labs may also include providing technical assistance to potential entrants, entrants, and finalists.

II. Subject of Challenge Competition

Simulated digital learning environments, such as virtual and augmented reality experiences, training simulations, and multiplayer video games, represent an emerging class of instructional content delivery in education. Research indicates that simulation-based learning provides students with enriched experiences in information retention, engagement, skills training, and learning outcomes.² The virtual reality, video game developer, and educational technology communities are invited to design simulations that prepare America's students for the increasingly competitive workforce through next-generation career and technical education.

² Tobias, S., and J. D. Fletcher. “Reflections on `A Review of Trends in Serious Gaming' ” Review of Educational Research 82, no. 2 (2012): 233-37; Rutten, Nico, Wouter R. Van Joolingen, and Jan T. Van Der Veen. “The Learning Effects of Computer Simulations in Science Education.” Computers & Education 58, no. 1 (2012): 136-53.

A call for public feedback, which took place from November 4 to December 9, 2015, helped to shape the Challenge. This public feedback informed the design of several Challenge elements, including the selection criteria, approach to technology, and the content of the submission form. Specifically, the public feedback indicated that the field was interested in the Department allowing maximum flexibility to entrants designing concepts. More information regarding the call for public feedback can be found on the Challenge Web page.

The Challenge will be conducted in four phases:

(1) Challenge launch and the first round submission phase;

(2) Judging of first round submissions and selection of finalists;

(3) Virtual Accelerator Phase (inclusive of finalist mentorship, Innovator's Boot Camp, second round submissions, and Demonstration Day); and

(4) Final judging and selection of winner(s).

The Challenge calls upon potential entrants to submit information concerning concepts that would allow users to gain and demonstrate new academic, technical, and employability skills through engaging simulation experiences. The Department is most interested in immersive and engaging simulations that will help define the next generation of applied learning.

The Department invites potential entrants to submit concepts which may include a prototype for discrete, playable simulations with clearly defined learning goals. The Department seeks concepts that aim to build competency in multiple skills by familiarizing the user with a particular career pathway or providing the user with guided experiences.

The Department seeks concepts with the potential to connect to other simulations and set the stage for a more competitive and robust marketplace for educational simulations. The Department encourages developers to make aspects of their EdSims available through open source licenses and low-cost sharable components in order to increase access to CTE and educational simulations.³

³ Information on open source education technology and resources can be found on the Department Web site at http://tech.ed.gov/developers.

Up to five finalists will be selected from the pool of submissions received during the first round submission phase. From the total prize pool of $680,000, each of the finalists will be awarded $50,000 for their submission based on a review by the judging panel using the criteria in paragraph (a) in the Selection Criteria section of this notice. Finalists will be encouraged to use their winnings to improve upon their submissions. Finalists are required to participate in the Virtual Accelerator Phase, submit a second round submission, and attend the Innovator's Boot Camp and Demonstration Day. After the Virtual Accelerator Phase, Demonstration Day, and final judging using the criteria in paragraph (b) in the Selection Criteria section of this notice, the winner(s) will be selected by the Department and receive the remainder of the prize money.

Virtual Accelerator Phase Description

The Virtual Accelerator Phase begins on the date finalists are announced and concludes on Demonstration Day,⁴ which is the day when finalists present their second round submissions to the judging panel. During this phase, the finalists will revise and improve upon their submissions in preparation for Demonstration Day. On Demonstration Day, the finalists will be required to present their concept and demonstrate a final prototype.

⁴ The date of the announcement of the finalists will be determined by the Department.

General Elements of the Virtual Accelerator Phase include the following—

(1) Mentorship: Finalists will have access to subject matter experts (SMEs) who will act throughout the Virtual Accelerator Phase as mentors, helping the finalists to revise and improve their submissions.

(2) Innovator's Boot Camp: ⁵ Finalists will be required to participate in the Innovator's Boot Camp. The Innovator's Boot Camp will either be a live event in the greater New York City metropolitan area, or a virtual event. Finalists will be required to cover their own expenses to attend the Innovator's Boot Camp and may use their prize money for this purpose. The Innovator's Boot Camp is expected to be conducted over a three-day period. Finalists will receive guidance through teaching modules, which may include hands-on activities, with SMEs and Luminary Labs staff. While the agenda has yet to be finalized, major themes will likely include user testing and interface development along with instructions on how to best revise and improve finalists' submissions, potentially including various design and innovation methodologies that would improve access to CTE programs for everyone, including individuals with disabilities.

⁵ The date of the Innovator's Boot Camp will be determined by the Department.

(3) Demonstration Day Presentation Support: After the Innovator's Boot Camp and prior to Demonstration Day, all finalists will have the opportunity to practice their presentations and receive feedback from Luminary Labs on how to improve their Demonstration Day presentations.

Following Demonstration Day, a judging panel will provide recommendations to the Department on the selection of one or more winners from the pool of finalists to receive the remainder of the prize money.

Program Authority: The goals, purposes, and activities related to the Challenge are authorized by section 114(c)(1) of Perkins IV, 20 U.S.C. 2324(c)(1). Under this section, the Secretary of the U.S. Department of Education is authorized to carry out research, development, dissemination, evaluation and assessment, capacity building, and technical assistance with regard to CTE programs under Perkins IV. Following the Challenge, the Department plans to post abstracts of the submissions selected as finalists and winners on the Challenge Web page for public viewing. Abstracts will include a concept summary and a selection of multimedia elements from each finalist's and winner's submission. The judge's scores will not be posted. Neither the Department nor Luminary Labs will provide feedback to entrants that are not selected as finalists.

III. Eligibility

(a) Eligible entrants must be:

(1) Individuals at least 18 years of age and a citizen or permanent resident of the United States; ⁶

⁶ The 50 States of the United States, the District of Columbia, the Commonwealth of Puerto Rico, and the outlying areas of the United States Virgin Islands, Guam, American Samoa, the Commonwealth of the Northern Mariana Islands, and the Republic of Palau.

(2) Teams of individuals that:

(i) Are all at least 18 years of age;

(ii) Include at least one citizen or permanent resident of the United States; and

(iii) May also include foreign citizens who affirm at the time of submission of an entry for the Challenge that they are foreign citizens, who are not permanent residents; or

(3) An entity registered or incorporated in accordance with applicable State and local laws, and maintaining a primary place of business in the United States. The entity may include foreign citizens participating as employees of the entity.

(b) Ineligible entrants include—

(1) A foreign citizen unless participating as part of an eligible team or entity;

(2) A Federal entity;

(3) A Federal employee acting within the scope of his or her employment; and

(4) All employees of the Department, Luminary Labs, Challenge sponsors, or any other individual or entity associated with the development or administration of the Challenge, as well as members of such persons' immediate families (spouses, children, siblings, parents), and persons living in the same household as such persons, whether or not related.

(c) Entrants must:

(1) Register on the Challenge Web page (see Additional Terms that are Part of the Official Rules, under the General Terms and Conditions in this notice);

(2) Enter a submission on the Challenge Web page according to the rules, terms, and conditions in this notice;

(3) Comply with all requirements of the Challenge;

(4) Provide affirmation upon submission of an entry for the Challenge that an entrant is eligible under subsection (a) of this section. If selected as a finalist, entrants must provide documentation to demonstrate their eligibility at that time.

(5) Agree to—

(i) Assume any and all risks and waive claims against the Federal government and its related entities, except in the case of willful misconduct, for any injury, death, damage, or loss of property, revenue, or profits, whether direct, indirect, or consequential, arising from their participation in the Challenge, whether the injury, death, damage, or loss of property, revenue, or profits, whether direct, indirect, or consequential, arises through negligence or otherwise;

(ii) Indemnify the Federal government against third party claims for damages arising from, or related to, competition activities, patents, copyrights, and trademark infringements; and

(iii) Comply with and abide by the Official Rules, Terms and Conditions in this notice, and the decisions of the Department which shall be final and binding in all respects.

(d) Entrants are not required to obtain liability insurance or demonstrate financial responsibility in order to participate in the Challenge.

IV. Prizes

The total prize pool for the Challenge is $680,000. From the $680,000 Challenge prize pool funds, up to five finalists will be awarded $50,000 each following the judging of the first round submissions. Finalists will improve upon and revise their submissions during the Virtual Accelerator Phase. At the conclusion of the Virtual Accelerator Phase, finalists must submit a second round submission and present their submissions on Demonstration Day. After Demonstration Day, a judging panel will provide recommendations to the Department on the selection of one or more winners from the pool of finalists to receive the remainder of the prize money.

Prizes awarded under this competition will be paid by electronic funds transfer. Winners are responsible for any applicable local, State, and Federal taxes and reporting that may be required under applicable tax laws.

V. Selection Criteria

(a) To participate in the Challenge, an entrant must submit an eligible entry according to the Eligibility section of this notice. Each of the following five selection criteria may be assigned up to five points during the judging of first round submissions in order to select finalists (for a total of up to 25 points). The following criteria will be used to select the finalists:

(1) Learning Outcomes (up to 5 points). The extent to which the submission contains: Clearly defined academic, technical, and employability skill-learning objectives; a comprehensive description of the desired change or improvement in the user's knowledge and skills; and an efficient mechanism to provide feedback to the user and instructor with respect to progress toward achievement of the learning outcomes.

(2) Engagement (up to 5 points). The extent to which the submission describes an engaging user experience that is on par with commercially available entertainment games.

(3) Commitment (up to 5 points). The extent that the submission demonstrates an appropriate level of commitment and ability of the entrant to move from concept to the demonstrative prototype within the timeline of the Challenge.

(4) Implementation Strategy (up to 5 points). The extent to which the submission considers the implementation challenges that schools face, such as cost and potential technological constraints, including how to integrate with existing and future technology.

(5) Scalability and Expansion (up to 5 points). The extent to which the submission demonstrates the scalability of the simulation, including its potential to connect with other simulations, as well as set the stage for a more competitive and robust marketplace for educational simulations.

(b) When judging the finalist submissions, including a prototype, judges will recommend to the Department the winner(s) from the pool of the finalists. From the pool of finalists, the winner(s) will be selected based on the following six criteria. Each of the six selection criteria may be assigned up to five points during the selection of the winner(s) from the pool of finalists (for a total of up to 30 points). The following criteria will be used to select the winner(s):

(1) Learning Outcomes (up to 5 points). The extent to which the simulation prototype contains clearly defined academic, technical, and employability learning objectives; spurs change or improvement in the user's knowledge and skills; and provides data to the user and instructor with respect to progress toward achievement of the learning outcomes.

(2) Engagement—User Experience (up to 5 points). The extent to which the simulation prototype demonstrates an engaging user experience on par with commercially available entertainment games.

(3) Engagement—User Interface (up to 5 points). The extent to which the simulation prototype exhibits a thoughtful user interface design on par with commercially available entertainment games.

(4) Commitment (up to 5 points). The extent to which the submission—

(i) Demonstrates the entrant's evolution and improvement of the concept; and

(ii) Illustrates the entrant's ability and intention to improve upon and scale the simulation beyond the Challenge timeframe.

(5) Implementation Strategy (up to 5 points). The extent to which the submission describes a detailed plan for implementation that takes into account potential barriers such as cost and technological constraints, including integration with existing and future technology, and proposes potential solutions to overcome such barriers.

(6) Long-term Vision (up to 5 points). The extent to which the submission—

(i) Demonstrates a plan for encouraging collaboration among the developer community, including making aspects of the solution available through open source licenses; and

(ii) Provides a vision of how the entrant's plan will stimulate the broader educational simulation market.

VI. Submission Information

1. To participate in the Challenge, an entrant must—

(a) Register on the Challenge Web page.

(b) Enter the required information on the Challenge Web page submission form.

2. Content and Form of Submission:

To submit an entry to the first round of the Challenge, an entrant must complete the submission form on the Challenge Web page. Finalists must submit a second round submission using the second round submission form on the Challenge Web page to be eligible for winner selection.

3. Submission Dates and Times:

The first round submissions phase officially begins November 2, 2016 with this announcement of the Challenge and continues to January 17, 2017 at 4:59:59 p.m., Washington, DC time. Luminary Labs is the official timekeeper for the Challenge.

Submissions must be received during the first round submissions phase of the Challenge to be eligible. To submit an entry to the Challenge, an entrant must go to the Challenge Web page and complete all required fields of the submission form before the close of the first round submissions phase. Each entrant must complete all of the required fields in the submission form in accordance with the Official Rules, Terms, and Conditions section of this notice. All entrants are required to provide consent to those Official Rules, Terms, and Conditions upon submitting an entry. Once submitted, a submission may not be altered during the first round submissions phase. The Department reserves the right to disqualify any submission that the Department deems inappropriate.

Entrants may enter individually or as part of a team, and teams are strongly encouraged. Each team member must be clearly identified on the team's submission form for the team to be eligible. Teams must designate a primary contact to serve as the team lead (Team Lead) and manage the distribution of any awarded prizes. In the event a dispute regarding the identity of the entrant who actually submitted the entry cannot be resolved by the Department, the affected entry will be deemed ineligible.

The first round submissions phase closes at 4:59:59 p.m., Washington, DC time on January 17, 2017. The Department encourages entrants to submit entries as far in advance of the deadline as possible and suggests not later than one hour before the deadline to ensure the completed submission is received. If an entrant is unable to submit an entry before the deadline date because of a technical problem with the Challenge Web page system, the entrant must immediately contact the person listed under For Further Information Contact in this notice, and provide an explanation of the technical problem experienced on the Challenge Web page system. Where possible, this should include a screenshot or photograph of the on-screen problem. The Department will accept the entrant's submission if the Department can confirm that a technical problem occurred with the Challenge Web page system and that the technical problem affected the entrant's ability to submit an entry by 4:59:59 p.m., Washington, DC time, on the entry deadline date. The Department will contact the entrant after a determination is made on whether the entry will be accepted.

Note: These extensions apply only to the unavailability of, or technical problems with, the Challenge Web page system. The Department will not grant an entrant an extension if the entrant failed to submit an entry in the system by the submission deadline date and time, or if the technical problem experienced is unrelated to the Challenge Web page system.

Individuals with disabilities who need an accommodation or auxiliary aid in connection with the submission process should contact the person listed under For Further Information Contact in this notice. If the Department provides an accommodation or auxiliary aid to an individual with a disability in connection with the submission process, the entry remains subject to all other requirements and limitations in this notice.

VII. Submission Review Information

Review and Selection Process

Should the volume of first round submissions exceed the capacity of the independent judges to conduct a thorough evaluation of the submissions, an independent review panel with expertise relevant to the criteria described in the Award Selection Criteria section of this notice will conduct a preliminary review of the first round submissions. In conducting the preliminary review, the independent review panel will assign scores to each first round submission according to the criteria described in the Award Selection Criteria section of this notice. During the preliminary review, each criterion may be assigned up to 5 points for a total of up to 25 points.

The size of the independent review panel will be based on the number of submissions received. Each member of the independent review panel will score a maximum of thirty submissions and all submissions will receive scores from three different independent review panelists.

The submissions with the thirty highest scores assigned by the independent review panel will then be scored by independent judges based on the quality of each entry according to the criteria described in the Award Selection Criteria section of this notice.

Based on their individual expertise, judges will recommend up to five finalists to be selected by the Department. Once the Department has selected a group of finalists based on the recommendations of the judges consistent with the selection criteria, the finalists will then refine their submissions during the Virtual Accelerator Phase. At the conclusion of the Virtual Accelerator Phase, finalists will submit a second round submission and present their submissions on Demonstration Day.

Entries will be scored by the judges based on the quality of each entry according to the criteria described in paragraph (a) of the Selection Criteria section in this notice. When selecting finalists from the first round submission phase, each of the five criteria may be worth up to five points for a total of up to 25 points. When selecting the winner(s) from the finalists, judges will consider the six criteria described in paragraph (b) of the Selection Criteria section in this notice. Each of the six criteria will be assigned up to five points for a total of up to 30 points available.

By participating in the Challenge, each entrant acknowledges and agrees that such recommendations of the judges based on the criteria may differ and agrees to be bound by, and not to challenge, the final decisions of the Department.

VIII. Official Rules, Terms and Conditions

General Terms and Conditions

The Department reserves the right to suspend, postpone, cease, terminate, or otherwise modify this Challenge or any entrant's participation in the Challenge, at any time at the Department's sole discretion.

All entry information submitted on the Challenge Web page and all materials, including any copy of the submission, becomes property of the Department and will not be acknowledged or returned by Luminary Labs or the Department. However, entrants retain ownership of their concepts, including any software, research, or other intellectual property (IP) that they develop in connection therewith, subject to the license granted to the Department to use submissions as set forth in the Intellectual Property of Solutions section of this notice. Proof of submission is not considered proof of delivery or receipt of such entry. Furthermore, the Department and Luminary Labs shall have no liability for any submission that is lost, intercepted, or not received by the Department or Luminary Labs. The Department and Luminary Labs assume no liability or responsibility for any error, omission, interruption, deletion, theft, destruction, unauthorized access to, or alteration of, submissions.

Representations and Warranties/Indemnification

By participating in the Challenge, each entrant represents, warrants, and covenants as follows:

(a) The entrants are the sole authors, creators, and owners of the submission;

(b) The entrant's submission—

(i) Is not the subject of any actual or threatened litigation or claim;

(ii) Does not, and will not, violate or infringe upon the intellectual property rights, privacy rights, publicity rights, or other legal rights of any third party;

(iii) Does not contain any harmful computer code (sometimes referred to as “malware,” “viruses,” or “worms”); and

(c) The submission, and entrants' use of the submission, does not, and will not, violate any applicable laws or regulations of the United States.

If the submission includes the work of any third party (such as third party content or open source code), the entrant must be able to provide, upon the request of the Department or Luminary Labs, documentation of all appropriate licenses and releases for such third party works. If the entrant cannot provide documentation of all required licenses and releases, the Department reserves the right, in its sole discretion, to disqualify the applicable submission, or direct the entrant to secure the licenses and releases for the Department's benefit within three days of notification of the missing documentation and allow the applicable submission to remain in the Challenge. In addition, the Department reserves all rights to pursue an entrant for claims based on damages incurred by entrant's failure to obtain such licenses and releases.

Entrants will indemnify, defend, and hold harmless the Department and Luminary Labs from and against all third party claims, actions, or proceedings of any kind and from any and all damages, liabilities, costs, and expenses relating to, or arising from, entrant's submission or any breach or alleged breach of any of the representations, warranties, and covenants of entrant hereunder. The Department reserves the right to disqualify any submission that the Department, in its discretion, deems to violate these Official Rules, Terms and Conditions in this notice.

Submission License

Each entrant retains title to, and full ownership of, its submission. The entrant expressly reserves all intellectual property rights not expressly granted under this agreement. By participating in the Challenge, each entrant hereby irrevocably grants a license to the Department and Luminary Labs to store and access submissions in perpetuity that may be reproduced or distributed in the future. Please refer to the Intellectual Property of Submissions section of this notice for further information regarding rights to submissions.

Publicity Release

By participating in the Challenge, each entrant hereby irrevocably grants to the Department and Luminary Labs the right to use such entrant's name, likeness, image, and biographical information in any and all media for advertising and promotional purposes relating to the Challenge in perpetuity and otherwise as stated in the Submission License section of this notice.

Disqualification

The Department reserves the right in its sole discretion to disqualify any entrant who is found to be tampering with the entry process or the operation of the Challenge, Challenge Web page, or other Challenge-related Web pages; to be acting in violation of these Official Rules, Terms and Conditions; to be acting in an unsportsmanlike or disruptive manner, or with the intent to disrupt or undermine the legitimate operation of the Challenge; or to annoy, abuse, threaten, or harass any other person; and, the Department reserves the right to seek damages and other remedies from any such person to the fullest extent permitted by law.

Links to Third-Party Web Pages

The Challenge Web page may contain links to third-party Web pages that are not owned or controlled by Luminary Labs or the Department. Luminary Labs and the Department do not endorse or assume any responsibility for any such third party sites. If an entrant accesses a third-party Web page from the Challenge Web page, the entrant does so at the entrant's own risk and expressly relieves Luminary Labs or the Department from any and all liability arising from use of any third-party Web page content.

Disclaimer

The Challenge Web page contains information and resources from public and private organizations that may be useful to the reader. Inclusion of this information does not constitute an endorsement by the Department or Luminary Labs of any products or services offered or views expressed. Blog articles provide insights on the activities of schools, programs, grantees, and other education stakeholders to promote continuing discussion of educational innovation and reform. Blog articles do not endorse any educational product, service, curriculum, or pedagogy.

The Challenge Web page also contains hyperlinks and URLs created and maintained by outside organizations, which are provided for the reader's convenience. The Department and Luminary Labs are not responsible for the accuracy of the information contained therein.

Notice to Finalists/Winner(s)

Attempts to notify finalists and winner(s) will be made using the email address associated with the Team Lead's Luminary Lightbox™ account. The Department and Luminary Labs are not responsible for email or other communication problems of any kind.

If, despite reasonable efforts, an entrant does not respond within three days of the first notification attempt regarding selection as a finalist (or a shorter time as exigencies may require) or if the notification is returned as undeliverable to such entrant, that entrant may forfeit the entrant's finalist status and associated prizes, and an alternate finalist may be selected.

If any potential prize winner is found to be ineligible, has not complied with these Official Rules, Terms and Conditions, or declines the applicable prize for any reason prior to award, such potential prize winner will be disqualified. An alternate winner may be selected, or the applicable prize may go unawarded.

Attendance

To maintain eligibility, finalists are required to participate in Challenge activities organized by the Department and Luminary Labs, which include the Virtual Accelerator Phase, Innovator's Boot Camp, and Demonstration Day. If a finalist is unable to participate in any mandatory activities, the finalist will not be eligible to win the Challenge. Finalists and winner(s) are required to attend these events at their own expense.

Intellectual Property (IP) of Submissions

Entrants retain ownership of their submission, including any software, research or other IP that they develop in connection therewith, subject to the license granted to the Department to use submissions as set forth herein.

Entrants retain all rights to the submission and any invention or work, including any software, submitted as part of the submission, subject to the following—

If the submission wins, the Department retains an exclusive, nontransferable, irrevocable, paid-up world-wide license to publish and publicly demonstrate any such invention or work of the submission throughout the world, in perpetuity, for Federal purposes.

As specified in Selection Criteria (b)(6) Long-term Vision, finalists will be evaluated, in part, on the aspects of their simulation they plan to make available through open source licenses. Finalists will be asked to provide evidence of their progress towards this goal as part of the second round submission.

Dates/Deadlines

The Department reserves the right to modify any dates or deadlines set forth in these Official Rules, Terms and Conditions or otherwise governing the Challenge.

Challenge Termination

The Department reserves the right to suspend, postpone, cease, terminate or otherwise modify this Challenge, or any entrant's participation in the Challenge, at any time at the Department's discretion.

General Liability Release

By participating in the Challenge, each entrant hereby agrees that—

(a) The Department and Luminary Labs shall not be responsible or liable for any losses, damages, or injuries of any kind (including death) resulting from participation in the Challenge or any Challenge-related activity, or from entrants' acceptance, receipt, possession, use, or misuse of any prize; and

(b) The entrant will indemnify, defend, and hold harmless the Department and Luminary Labs from and against all third party claims, actions, or proceedings of any kind and from any and all damages, liabilities, costs, and expenses relating to, or arising from, the entrant's participation in the Challenge.

Without limiting the generality of the foregoing, the Department and Luminary Labs are not responsible for incomplete, illegible, misdirected, misprinted, late, lost, postage-due, damaged, or stolen entries or prize notifications; or for lost, interrupted, inaccessible, or unavailable networks, servers, satellites, Internet Service Providers, Web pages, or other connections; or for miscommunications, failed, jumbled, scrambled, delayed, or misdirected computer, telephone, cable transmissions or other communications; or for any technical malfunctions, failures, difficulties, or other errors of any kind or nature; or for the incorrect or inaccurate capture of information, or the failure to capture any information.

These Official Rules, Terms and Conditions cannot be modified except by the Department in its sole and absolute discretion. The invalidity or unenforceability of any provision of these Official Rules, Terms and Conditions shall not affect the validity or enforceability of any other provision. In the event that any provision is determined to be invalid or otherwise unenforceable or illegal, these Official Rules, Terms and Conditions shall otherwise remain in effect and shall be construed in accordance with their terms as if the invalid or illegal provision were not contained herein.

Exercise

The failure of the Department to exercise or enforce any right or provision of these Official Rules, Terms and Conditions shall not constitute a waiver of such right or provision.

Governing Law

All issues and questions concerning the construction, validity, interpretation, and enforceability of these Official Rules, Terms and Conditions shall be governed by and construed in accordance with U.S. Federal law as applied in the Federal courts of the District of Columbia if a complaint is filed by any party against the Department, and the laws of the State of New York as applied in the New York state courts in New York City if a complaint is filed by any party against Luminary Labs.

Privacy Policy

By participating in the Challenge, each entrant hereby agrees that occasionally, the Department and Luminary Labs may also use the entrant's information to contact the entrant about Federal Challenge and innovation related activities, and acknowledges that the entrant has read and accepted the privacy policy at: www.edsimchallenge.com/privacy.

Additional Terms That Are Part of the Official Rules, Terms and Conditions

Please review the Luminary Lightbox™ Terms of Service at: www.LuminaryLightbox.com/terms for additional rules that apply to participation in the Challenge and more generally to use of the Challenge Web page. Such Terms of Service are incorporated by reference into these Official Rules, Terms and Conditions. If there is a conflict between the Terms of Service and these Official Rules, Terms and Conditions, the latter terms shall control with respect to this Challenge only.

Participation in the Challenge constitutes an entrant's full and unconditional agreement to these Official Rules, Terms and Conditions. By entering, an entrant agrees that all decisions related to the Challenge that are made pursuant to these Official Rules, Terms and Conditions are final and binding, and that all such decisions are at the sole discretion of the Department or Luminary Labs.

Luminary Labs collects personal information from entrants to the Challenge. The information collected is subject to the privacy policy located here: www.LuminaryLightbox.com/privacy.

Winners List/Official Rules/Contact

To obtain a list of finalists and winner(s) (after the conclusion of the Challenge) or a copy of these Official Rules, Terms, and Conditions, send a self-addressed envelope with the proper postage affixed to: Luminary Labs, 30 West 22nd St., Floor 6, New York, NY 10010. Please specify “Winners List” or “Official Rules” and the name of the specific Challenge in this request.

Please contact the person listed under For Further Information Contact in section IX of this notice, should you have any comments or questions about these Official Rules, Terms, and Conditions.

IX. Agency Contact

For Further Information Contact: Albert Palacios, U.S. Department of Education, 550 12th Street SW., Room 11-086, Washington, DC 20202 or by email: albert.palacios@ed.gov.

If you use a TDD or a TTY, call the FRS, toll free, at 1-800-877-8339.

X. Other Information

Accessible Format: Individuals with disabilities can obtain this document and a copy of the application package in an accessible format (e.g., braille, large print, audiotape, or compact disk) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: October 26, 2016.
Johan E. Uvin,
Deputy Assistant Secretary, Delegated the Duties of Assistant Secretary for Career, Technical, and Adult Education.

[FR Doc. 2016-26262 Filed 11-1-16; 8:45 am]

BILLING CODE 4000-01-P